SMALL BUSINESS ADMINISTRATION

[License No. 09/71-0378]

Housatonic Equity Investors SBIC, L.P.; Notice Seeking Exemption Under Section 312 of the Small Business Investment Act, Conflicts of Interest

Notice is hereby given that Housatonic Equity Investors SBIC, L.P., 88 Kearney St. Suite 1610, San Francisco, CA 94108, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2000)). Houstonic Equity Investors SBIC, L.P. proposes to provide equity financing to WebFeet.com, Inc. 609 Mission Street, Suite 4000, San Francisco, CA 94105. The financing is contemplated for working capital purposes.

The financing is brought within the purview of Sec. 107.730(a)(1) of the Regulations because Houstonic Equity Investors, L.P., an Associate of Houstonic Equity Investors SBIC, L.P., currently owns greater than 10 percent of ArchivesOne, Inc. and therefore WebFeet.com, Inc. is considered an Associate of Housatonic Equity Investors, L.P. as defined in Sec. 107.50 of the regulations.

Notice is hereby given that any interested person may submit written comments on the transaction to the Associate Administrator for Investment, U.S. Small Business Administration, 409 Third Street, SW., Washington, DC 20416.

Don A. Christensen,
Associate Administrator for Investment.

[FR Doc. 00-33350 Filed 12-28-00; 8:45 am]

BILLING CODE 6325-01-U